DEPARTMENT OF LABOR

Employment and Training Administration

Notice of Determinations Terminating Investigations of Petitions Regarding Eligibility To Apply for Worker Adjustment Assistance

In accordance with Section 223 of the Trade Act of 1974, as amended (19 U.S.C. 2273), the Department of Labor herein presents summaries of determinations terminating investigations of petitions regarding eligibility to apply for trade adjustment assistance for workers by (TA-W-) number issued during the period of August 27, 2009 through January 5, 2010. After notice of the petitions was published in the Federal Register and on the Department's Web site, as required by Section 221 of the Act (19 U.S.C. 2271), the Department initiated investigations of these petitions.

The following determinations terminating investigations were issued. These petitions were not valid because they were not filed in accordance with the requirements of 29 CFR 90.11.

TA-W-71,364: Maggy London International, New York, New York.

TA-W-72,006: Aerotek Engineering, Troy, Michigan.

TA-W-72,042: Align Technology, Santa Clara, California.

TA-W-72,173: Reliant Machine, Inc., Green Bay, Wisconsin.

TA-W-72,446: White & Green Motors/KPH Enterprise, Eaton Rapids, Michigan.

TA-W-72,591: Hutchinson Technology, Eau Claire, Wisconsin.

TA-W-72,685: First Data Corp., Daytona Beach, Florida.

TA-W-72,814: Ariba, Inc., Sunnyvale, California.

TA-W-72,891: Pulva Corp., Saxonburg, Pennsylvania.

TA-W-72,941: Boeing Aerospace Corp., Seattle, Washington.

TA-W-72,984: Delphi Delco Electronics, de Mexico, Los Indios, Texas.

TA-W-72,993: Boeing Aerospace Corp., Seattle, Washington.

I hereby certify that the aforementioned determinations were issued during the period of August 27, 2009 through January 5, 2010. Copies of these terminations are available for inspection in Room N-5428, U.S. Department of Labor, 200 Constitution Avenue, NW., Washington, DC 20210 during normal business hours or will be mailed to persons who write to the above address. These determinations also are available on the Department's Web site at www.doleta/tradeact under the searchable listing of determinations.

Dated: April 14, 2010.
Elliott S. Kushner,
Certifying Officer, Division of Trade Adjustment Assistance.

[FR Doc. 2010-9351 Filed 4-21-10; 8:45 am]

BILLING CODE 4510-FN-P